DEPARTMENT OF ENERGY

Federal Energy Regulatory Commission

Combined Notice of Filings #2

Take notice that the Commission received the following exempt wholesale generator filings:

Docket Numbers: EG19-116-000.

Applicants: RE Gaskell West 2 LLC.

Description: Notice of Self-Certification of Exempt Wholesale Generator Status of RE Gaskell West 2 LLC.

Filed Date: 5/23/19.

Accession Number: 20190523-5148.

Comments Due: 5 p.m. ET 6/13/19.

Take notice that the Commission received the following electric rate filings:

Docket Numbers: ER17-2291-004.

Applicants: PJM Interconnection, L.L.C.

Description: Compliance filing: Compliance Filing Pursuant to April 23, 2019 Order re: Indemnification to be effective 11/9/2017.

Filed Date: 5/23/19.

Accession Number: 20190523-5154.

Comments Due: 5 p.m. ET 6/13/19.

Docket Numbers: ER19-1966-000.

Applicants: Southern California Edison Company.

Description: Tariff Cancellation: Cancel LGIA Golden Oasis Project SA No. 188 to be effective 7/3/2019.

Filed Date: 5/23/19.

Accession Number: 20190523-5089.

Comments Due: 5 p.m. ET 6/13/19.

Docket Numbers: ER19-1967-000.

Applicants: El Paso Electric Company.

Description: Compliance filing: Order No. 819 Compliance—Market-Based Rate Tariff to be effective 5/24/2019.

Filed Date: 5/23/19.

Accession Number: 20190523-5094.

Comments Due: 5 p.m. ET 6/13/19.

Docket Numbers: ER19-1968-000.

Applicants: AEP Indiana Michigan Transmission Company, Inc., Indiana Michigan Power Company, PJM Interconnection, L.L.C.

Description: § 205(d) Rate Filing: AEP submits ILDSA, Service Agreement Nos. 1262 and 5120 and Prairie Ronde FA to be effective 6/1/2019.

Filed Date: 5/23/19.

Accession Number: 20190523-5113.

Comments Due: 5 p.m. ET 6/13/19.

Docket Numbers: ER19-1969-000.

Applicants: Louisville Gas and Electric Company.

Description: § 205(d) Rate Filing: Amendment LGE-KU Joint Short Form MBR Tariff to be effective 7/23/2019.

Filed Date: 5/23/19.

Accession Number: 20190523-5119.

Comments Due: 5 p.m. ET 6/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2019.
Nathaniel J. Davis, Sr.,
Deputy Secretary.

[FR Doc. 2019-11355 Filed 5-30-19; 8:45 am]

BILLING CODE 6717-01-P